DEPARTMENT OF TRANSPORTATION

Pipeline and Hazardous Materials Safety Administration

Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 25, 2013.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on March 18, 2013.
Donald Burger,
Chief, General Approvals and Permits.

Application No. | Docket No. | Applicant | Regulation(s) affected | Nature of special permits thereof
NEW SPECIAL PERMITS
15811-N |  | Bluesky Helicopters, Inc., Redlands, CA | 49 CFR 49 CFR Table § 172.101, Column(9B), § 172.204(c)(3), § 173.27(b)(2), § 175.30(a)(1), § 172.200, 172.300, and 172.400 | To authorize the transportation in commerce of certain hazardous materials by 14 CFR Part 133 Rotorcraft External Load Operations transporting hazardous materials attached to or suspended from an aircraft, in remote areas of the U.S. only, without being subject to hazard communication requirements, quantity limitations and certain loading and stowage requirements. (mode 4)
15820-N |  | Korean Air, Arlington, VA | 49 CFR 172.101, Column (9B), 172.204(c)(3), 173.27, and 175.30(a)(1) | To authorize the one-time transportation in commerce of certain explosives that are forbidden for transportation by cargo only aircraft. (mode 4)
15821-N |  | Circor Instrumentation Technologies dba, Hoke Incorporated, Spartanburg, SC | 49 CFR 49 CFR 178.36 | To authorize the manufacture, marking, sale and use of non-DOT specification cylinders manufactured from Hastelloy C-276 (ASTM B622) material. (mode 1)
15827-N |  | Advanced Chemical Transport, Sunnyvale, CA | 49 CFR 173.185(a) | To authorize the manufacture, marking, sale an use of certain packagings for spent lithium ion batteries that have not been tested in accordance with the UN Manual of Test Criteria. (modes 1, 3, 4)
15828-N |  | Praxair, Inc., Danbury, CT | 49 CFR 180.605(h)(3) | To authorize the transportation in commerce of certain portable tanks that have been alternatively tested. (modes 1, 3)
15832-N |  | Baker Petrolite, Sugar Land, TX | 49 CFR 172.102(c) Special Provision B14 and TP38 | To authorize the transportation in commerce of certain uninsulated portable tanks for transportation of acrolein by motor vehicle and cargo vessel. (modes 1, 3)
15833-N |  | Northern Power Systems, Inc | 49 CFR 172.200, 172.315(a)(2), and 172.504(a) | To authorize the transportation in commerce of limited quantities of paint, aerosols and fire extinguishers in a package containing a windmill with no marks, labels or shipping paper documents for transportation by highway and cargo vessel. (modes 1,3)
15834-N |  | Multistar Ind., Inc., Othello, WA | 49 CFR 180.605(1) | To authorize the transportation in commerce of certain portable tanks and cargo tanks containing anhydrous ammonia that do not have manufacturer's data reports required by 49 CFR 180.605(1). (mode 1)
15836-N |  | Galyean LP | 49 CFR 173.202, 173.203, 173.241, 173.242 and 173.243 | To authorize the transportation in commerce of certain Class 3 and Class 8 materials in alternative packaging for transportation by motor vehicle. (mode 1)

[FR Doc. 2013-06700 Filed 3-25-13; 8:45 am]

BILLING CODE 4909-60-M